DEPARTMENT OF LABOR

Employment and Training Administration

[TA-W-38,217; TA-W-38,217G]

Union Pacific Fuels Inc., Union Resources Company, and Union Pacific Resources Group, Inc., Headquarter in Fort Worth Texas and Operating in Texas, Notice of Negative Determination Regarding Application for Reconsideration

By application of December 28, 2000, the petitioners requested administrative reconsideration of the Department's negative determination regarding eligibility for workers and former workers of the subject firm to apply for Trade Adjustment Assistance (TAA). The denial notice applicable to workers of Union Pacific Fuels Inc., Union Resources Company, and Union Pacific Resources Group, Inc., Headquartered in Forth Worth, Texas (TA-W-37,217), and operating in various States including Texas (TA-W-37,217G), was signed on December 6, 2000, and was published in the Federal Register on December 21, 2000 (65 FR 80456).

Pursuant to 29 CFR 90.18(c) reconsideration may be granted under the following circumstances:

(1) If it appears on the basis of facts not previously considered that the determination complained of was erroneous;

(2) if it appears that the determination complained of was based on a mistake in the determination of facts not previously considered; or

(3) If in the opinion of the Certifying Officer, a misinterpretation of facts or of the law justified reconsideration of the decision.

The request for reconsideration of TA-W-37,217 and TA-W-37,217G, states that the Fort Worth, Texas workers of the subject firm are being retained to transition computer systems, land records, train Anadarko employees and transfer assets. The petitioner adds that these workers are being retained because of their specialized expertise unique to the oil and gas industry; opportunities in Forth Worth are limited as more companies close. The petitioner submitted excerpts from the subject firm's 1998 and 1999 annual reports, and materials related to the oil and gas industry.

The TAA petition filed on October 16, 2000, was filed on behalf of workers engaged in employment related to the production of crude oil and natural gas, at the subject firm headquarters in Forth Worth, Texas, and operating in Colorado, Wyoming, Oklahoma, Kansas, Louisiana, Utah and Texas. On December 6, 2000, workers of the subject firm were denied eligibility to apply for worker adjustment assistance because the “contributed importantly” criterion of the group eligibility requirements of Section 222 of the Trade Act of 1974, as amended, was not met. The subject firm merged with another firm in July 2000. Workers of the subject firm were covered by an existing certification, TA-W-35,465, which expired January 21, 2001. Any layoffs that occurred at the subject firm after the expiration date of the certification applicable to the petitioning worker group, were attributable to this merger and a redundancy in employee positions. Furthermore, aggregate U.S. imports of crude oil and natural gas declined in the twelve-month period of July through June 1999-2000, both absolutely and relative to domestic shipments.

Conclusion

After review of the application and investigative findings, I conclude that there has been no error or misinterpretation of the law or of the facts which would justify reconsideration of the Department of Labor's prior decisions. Accordingly, the application is denied.

Signed at Washington, DC, this 20th day of February 2001.
Edward A. Tomchick,
Director, Division of Trade Adjustment Assistance.

[FR Doc. 01-5090 Filed 3-1-01; 8:45 am]

BILLING CODE 4510-30-M